DEPARTMENT OF HEALTH AND HUMAN SERVICES

45 CFR Part 5b

RIN 0925-AA69

Privacy Act; Implementation; Further Delay of Effective Date

AGENCY: National Institutes of Health (NIH), Department of Health and Human Services (HHS).

ACTION: Final rule; further delay of effective date.

SUMMARY: On January 16, 2025, the Department of Health and Human Services published a final rule to make effective the exemptions that were previously proposed for a new Privacy Act system of records, “NIH Police Records,” maintained by the National Institutes of Health (NIH), from certain requirements of the Act. That final rule was originally scheduled to take effect on February 18, 2025. Subsequently, the effective date was delayed until March 21, 2025, in response to the memorandum titled “Regulatory Freeze Pending Review,” issued by the President on January 20, 2025. This notice further delays the effective date until May 5, 2025.

DATES: As of March 21, 2025, the effective date of the final rule published on January 16, 2025 (90 FR 4673), delayed until March 21, 2025 (90 FR 9844), is further delayed until May 5, 2025.

FOR FURTHER INFORMATION CONTACT: Dustin Close, Office of Management Assessment, National Institutes of Health, 6705 Rockledge Drive, Suite 601, Bethesda, Maryland 20892, telephone 301-402-6469, email privacy@mail.nih.gov.

SUPPLEMENTARY INFORMATION: On January 16, 2025, HHS issued a final rule (90 FR 4673) to make effective the exemptions that were proposed (89 FR 48536) for a new Privacy Act system of records maintained by NIH from certain requirements of the Act. The new system of records covers criminal and non-criminal law enforcement investigatory material maintained by the NIH Division of Police, a component of NIH which performs criminal law enforcement as its principal function. The exemptions are necessary and appropriate to protect the integrity of law enforcement proceedings and records compiled during the course of NIH Division of Police activities, prevent disclosure of investigative techniques, and protect the identity of confidential sources involved in those activities.

On January 20, 2025, President Donald J. Trump issued a memorandum titled “Regulatory Freeze Pending Review,” (90 FR 8249) that instructs Federal agencies to consider delaying the effective date of rules published in the Federal Register, but which have not yet taken effect, for a period of 60 days from the date of the memorandum. In accordance with that memorandum, HHS delayed for 60 days from the date of the President's memorandum the effective date of the final rule titled “Privacy Act; Implementation” that published on January 16, 2025.

The effective date of that final rule, which would have been March 21, 2025, is now May 5, 2025.

Robert F. Kennedy, Jr.,
Secretary, Department of Health and Human Services.

[FR Doc. 2025-04979 Filed 3-21-25; 8:45 am]

BILLING CODE 4150-01-P